FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR Part 515).

Persons knowing of any reason why the following applicants should not receive a license are requested to contact the Office of Transportation Intermediaries, Federal Maritime Commission, Washington, DC 20573.

Non-Vessel-Operating Common Carrier Ocean Transportation Intermediary Applicants:

Cala Investments, LLC, 2705 NW 109 Ave., Miami, FL 33172, Officer:Pedro L. Salcedo, Manager (Qualifying Individual).

Integrated Global Logistics LLC, 6555 NW 36 Street, #201-E, Virginia Gardens, FL 33166, Officers:Vera P. Gazitua, Manager (Qualifying Individual), Monica Alvarez-Tabraue, Manager.

Speedmark Transportation, Inc., 1525 Adrian Rd., Burlingame, CA 94010. Officer:Joe Phan, General Manager (Qualifying Individual).

Non-Vessel-Operating Common Carrier and Ocean Freight Forwarder Transportation Intermediary Applicants:

APM Global Logistics USA Inc. dba Maersk Logistics, Giralda Farms, Madison Ave., P.O. Box 880, Madison, NJ 07940-0880, Officer:Jens F. Wessel, V. Pres., Sales (Qualifying Individual).

Overnight Solutions, Inc., 600 N. Shepherd, #512, Houston, TX 77007, Officers:Richard J. Ling, President (Qualifying Individual), Justiniano J. Nunez, Vice President.

Platinum Cargo Logistics Inc., 871 E. Artesia Blvd., Carson, CA 90746, Officers:Jefferson Clay, Vice President (Qualifying Individual), Kelli Spiri, President.

EJ Logistic, Inc., 2500 NW 79th Ave., Ste. 200, Miami, FL 33122, Officer:Eduardo E. Roman, President (Qualifying Individual).

CK Logistics, Inc., 431 Isom Rd., #107, San Antonio, TX 78216, Officer:Christopher S. Kuehler, President (Qualifying Individual).

Argos Express Ltd., 147-27 175th Street, #1B, Jamaica, NY 11434, Officers:William Li, Vice President (Qualifying Individual), Chi H. Li, President.

Linsan.Tex Investments L.L.C., 260 South Beltline Rd., #262, Irving, TX 75060, Officers:Franklin E. Aigbuza, Secretary (Qualifying Individual), Roseline A. Izedonmwen, CEO.

StarBase Global Logistics, Inc., 6235 Highway 305 North, Ste. 3, Olive Branch, MS 38654, Officers:William C. Wells, Jr., Treasurer (Qualifying Individual), Thomas A. Drew, President.

Ocean Freight Forwarder—Ocean Transportation Intermediary Applicants:

Star USA, Inc., 250 N. Davis Rd., Ashland, OH 44805, Officers:Michael L. Easton, Vice President (Qualifying Individual), Margaret Easton, President.

Platinum Moving Services, Inc., 7610-P Rickenbacker Dr., Gaithersburg, MD 20879, Officers:Raquel Fazio, President (Qualifying Individual), Steve D. Fazio, Treasurer.

BDP International, Inc., 510 Walnut Street, Philadelphia, PA 19106, Officer:John M. Bolte, Vice President (Qualifying Individual).

USI-USA, Inc., 13030 Fellowship Way, Reno, NV 89511, Officers:John Maness, Vice President (Qualifying Individual), Periklis E. Papadopoulos, President.

Dated: June 5, 2009.
Tanga S. FitzGibbon,
Assistant Secretary.

[FR Doc. E9-13636 Filed 6-9-09; 8:45 am]

BILLING CODE 6730-01-P